DEPARTMENT OF COMMERCE

National Oceanic and Atmospheric Administration

RIN 0648-XF441

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet June 7-14, 2017. The Pacific Council meeting will begin on Friday, June 9, 2017 at 9 a.m. Pacific Daylight Time (PDT), reconvening at 8 a.m. each day through Wednesday, June 14, 2017. All meetings are open to the public, except a closed session will be held from 8 a.m. to 9 a.m., Friday, June 9 to address litigation and personnel matters. The Pacific Council will meet as late as necessary each day to complete its scheduled business.

ADDRESSES: Meetings of the Pacific Council and its advisory entities will be held at the Doubletree by Hilton Spokane City Center, 322 N. Spokane Falls Court, Spokane, Washington; telephone: (509) 455-9600.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council Web site, http://www.pcouncil.org for the current meeting location, proposed agenda, and meeting briefing materials.

SUPPLEMENTARY INFORMATION: The June 7-14, 2017 meeting of the Pacific Council will be streamed live on the internet. The broadcasts begin initially at 9 a.m. PT Friday, June 9, 2017 and continue at 8 a.m. daily through Wednesday, June 14, 2017. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the June Webinar ID, 897-986-459, and your email address. You can attend the webinar online using a computer, tablet, or smart phone, using the GoToMeeting application. It is recommended that you use a computer headset to listen to the meeting, but you may use your telephone for the audio portion only of the meeting. The audio portion may be attended using a telephone by dialing the toll number 1-562-247-8422 (not a toll-free number), audio access code 862-846-290, and enter the audio pin shown after joining the webinar.

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, advisory entity meeting times, and meeting rooms are described in Agenda Item A.4, Proposed Council Meeting Agenda, and will be in the advance June 2017 briefing materials and posted on the Pacific Council Web site at www.pcouncil.org no later than May 19, 2017.

A. Call to Order

1. Opening Remarks

2. Roll Call

3. Executive Director's Report

4. Approve Agenda

B. Open Comment Period

1. Comments on Non-Agenda Items

C. Administrative Matters

1. Council Coordination Committee Meeting Report

2. Fiscal Matters

3. Legislative Matters

4. Approval of Council Meeting Records

5. Stock Assessment Improvement Plan Comments

6. National Marine Fisheries Service (NMFS) White Paper on Best Scientific Information Available (BSIA)

7. Membership Appointments and Council Operating Procedures

8. Future Council Meeting Agenda and Workload Planning

D. Coastal Pelagic Species Management

1. Final Pacific Mackerel Stock Assessment and Management Measures

2. Final Approval of Aerial Survey Methodology

E. Habitat

1. Current Habitat Issues

F. Groundfish Management

1. National Marine Fisheries Service Report

2. Trawl Catch Shares Review Draft Report and Intersector Allocation Report

3. Scoping of Trawl Catch Shares Discard Survival Credits for Sablefish and Lingcod

4. Final Stock Assessments and Catch Reports

5. Scoping of Multi-year Average Catch Policy

6. Electronic Ticket Reporting Timeline Requirements

7. Specifications and Management Measures Process for 2019-20 Fisheries

8. Coastwide Non-whiting Midwater and Gear Modification Exempted Fishing Permit Progress Reports

9. Final Action on Updated Coordinates for the 125 Fathom Rockfish Conservation Area Line in California

10. Final Action on Inseason Adjustments

G. Pacific Halibut Management

1. Scoping of Catch Sharing Plan Changes and International Pacific Halibut Commission (IPHC) Data Request Report

H. Highly Migratory Species Management

1. National Marine Fisheries Service Report

2. Amendment 4 to the Fishery Management Plan for West Coast Fisheries for Highly Migratory Species (HMS FMP)

3. Authorization of Deep-Set Buoy Gear and Federal Permitting

4. Proposed Deep-Set Buoy Gear Exempted Fishing Permits

5. Recommendations for International Management Activities

I. Enforcement Issues

1. National Marine Fisheries Service (NMFS) Office of Law Enforcement (OLE) Strategic Review

Advisory Body Agendas

Advisory body agendas will include discussions of relevant issues that are on the Pacific Council agenda for this meeting, and may also include issues that may be relevant to future Council meetings. Proposed advisory body agendas for this meeting will be available on the Pacific Council Web site http://www.pcouncil.org/council-operations/council-meetings/current-briefing-book/ no later than Friday, May 19, 2017.

Schedule of Ancillary Meetings

Day 1—Wednesday, June 7, 2017

Scientific and Statistical Committee Groundfish Subcommittee, 8 a.m.

Day 2—Thursday, June 8, 2017

Habitat Committee, 8 a.m.

Groundfish Advisory Subpanel, 8 a.m.

Groundfish Management Team, 8 a.m.

Scientific and Statistical Committee, 8 a.m.

Budget Committee, 10:30 a.m.

Legislative Committee, 1 p.m.

Day 3—Friday, June 9, 2017

California State Delegation, 7 a.m.

Oregon State Delegation, 7 a.m.

Washington State Delegation, 7 a.m.

Groundfish Advisory Subpanel, 8 a.m.

Groundfish Management Team, 8 a.m.

Scientific and Statistical Committee, 8 a.m.

Enforcement Consultants, 3 p.m.

Day 4—Saturday, June 10, 2017

California State Delegation, 7 a.m.

Oregon State Delegation, 7 a.m.

Washington State Delegation, 7 a.m.

Groundfish Advisory Subpanel, 8 a.m.

Groundfish Management Team, 8 a.m.

Highly Migratory Species Advisory Subpanel, 8 a.m.

Highly Migratory Species Management Team, 8 a.m.

Enforcement Consultants, Ad Hoc

Day 5—Sunday, June 11, 2017

California State Delegation, 7 a.m.

Oregon State Delegation, 7 a.m.

Washington State Delegation, 7 a.m.

Groundfish Advisory Subpanel, 8 a.m.

Groundfish Management Team, 8 a.m.

Highly Migratory Species Advisory Subpanel, 8 a.m.

Highly Migratory Species Management Team, 8 a.m.

Enforcement Consultants, Ad Hoc

Day 6—Monday, June 12, 2017

California State Delegation, 7 a.m.

Oregon State Delegation, 7 a.m.

Washington State Delegation, 7 a.m.

Groundfish Advisory Subpanel, 8 a.m.

Groundfish Management Team, 8 a.m.

Highly Migratory Species Advisory Subpanel, 8 a.m.

Highly Migratory Species Management Team, 8 a.m.

Enforcement Consultants, Ad Hoc

Day 7—Tuesday, June 13, 2017

California State Delegation, 7 a.m.

Oregon State Delegation, 7 a.m.

Washington State Delegation, 7 a.m.

Highly Migratory Species Advisory Subpanel, 8 a.m.

Highly Migratory Species Management Team, 8 a.m.

Enforcement Consultants, Ad Hoc

Day 8—Wednesday, June 14, 2017

California State Delegation, 7 a.m.

Oregon State Delegation, 7 a.m.

Washington State Delegation, 7 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: May 17, 2017.
Tracey L. Thompson,
Acting Deputy Director, Office of Sustainable Fisheries, National Marine Fisheries Service.

[FR Doc. 2017-10330 Filed 5-19-17; 8:45 am]

BILLING CODE 3510-22-P